DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 23, 2004.

Interested persons are invited to submit written comments regarding the subject matter of the investigations to the Director, Division of Trade Adjustment Assistance, at the address shown below, not later than August, 23, 2004.

The petitions filed in this case are available for inspection at the Office of the Director, Division of Trade Adjustment Assistance, Employment and Training Administration, U.S. Department of Labor, Room C-5311, 200 Constitution Avenue, NW., Washington, DC 20210.

Timothy Sullivan,
Director, Division of Trade Adjustment Assistance.

Appendix
[Petitions Instituted Between 07/01/2004 and 07/16/2004]
TA-W | Subject firm (petitioner) | Location | Date of institution | Date of petition
55,181 | Thomasville Veneer Co. (Comp) | Thomasville, NC | 07/01/2004 | 06/28/2004
55,182 | Royal Home Fashion (Wkrs.) | Henderson, NC | 07/01/2004 | 06/18/2004
55,183 | Leggett and Platt Inc. (State) | Plymouth, MI | 07/01/2004 | 06/23/2004
55,184 | GE Consumer Finace (Wkrs.) | Alpharetta, GA | 07/01/2004 | 07/01/2004
55,185 | Wash nN Wear (Comp.) | Gallatin, TN | 07/01/2004 | 06/30/2004
55,186 | BDK Machine Co. Inc. (Comp.) | Manchester, CT | 07/01/2004 | 06/28/2004
55,187 | Quality Metal Finishing (IL) | Byron, IL | 07/01/2004 | 06/30/2004
55,188 | Dura Automotive Systems (Comp) | Brookfield, MO | 07/01/2004 | 06/30/2004
55,189 | Powerbrace Corp. (IAMAW) | Kenosha, WI | 07/01/2004 | 06/30/2004
55,190 | Anchor Group (Comp) | Sacramento, CA | 07/01/2004 | 06/15/2004
55,191 | TI Group Automotive Systems, Inc. (Comp) | Greeneville, TN | 07/01/2004 | 06/25/2004
55,192 | Scientific Plastics Ltd. (WKRS.) | Miami Lakes, FL | 07/02/2004 | 07/02/2004
55,193 | Kitco (IUAN) | Bluffton, IN | 07/02/2004 | 06/30/2004
55,194 | Dyer Fabrics, Inc. (Wkrs) | Dyersburg, TN | 07/02/2004 | 06/09/2004
55,195 | Aegis Telecommunication (Wkrs) | St. Joseph, MO | 07/02/2004 | 06/30/2004
55,196 | Celanese (Comp.) | Bishop, TX | 07/06/2004 | 06/30/2004
55,197 | Kaz (Wkrs.) | Newbern, TN | 07/06/2004 | 06/25/2004
55,198 | Schnadig Corporation (Comp.) | Montoursville, PA | 07/06/2004 | 07/01/2004
55,199A | Deckerville Wire, Inc. (Comp) | Harbor Beach, MI | 07/06/2004 | 06/25/2004
55,199 | Brown City Wire, Inc. (Comp.) | Harbor Beach, MI | 07/06/2004 | 06/25/2004
55,200 | Ozark Iron Works (AR) | Calico Rock, AR | 07/07/2004 | 07/06/2004
55,201 | Royal Home Fashions (Wkrs.) | Durham, NC | 07/07/2004 | 07/01/2004
55,202 | Wellstone Mills, LLC (Comp) | Eufaula, AL | 07/07/2004 | 07/06/2004
55,203 | Karolina Polymers (Comp) | Hickory, NC | 07/07/2004 | 06/30/2004
55,204 | Portola Packaging (Comp) | New Castle, PA | 07/07/2004 | 07/01/2004
55,205 | The Boeing Company (TF) | Oak Ridge, TN | 07/07/2004 | 07/02/2004
55,206 | American Lock Co. (Comp.) | Crete, IL | 07/07/2004 | 07/06/2004
55,207 | American Greetings (Wkrs.) | Lafayette, TN | 07/07/2004 | 06/28/2004
55,208 | Tecumseh Compressor Company (USWA) | Tecumseh, MI | 07/07/2004 | 07/02/2004
55,209 | Gerity-Schultz Corporation (Comp) | Toledo, OH | 07/07/2004 | 07/02/2004
55,210 | Wellstone Mills, LLC (Comp.) | Eufaula, AL | 07/09/2004 | 07/06/2004
55,211 | Bryan China Co. (Wkrs) | New Castle, PA | 07/09/2004 | 06/30/2004
55,212 | SOS Staffing Services (Utah) | Draper, UT | 07/09/2004 | 07/07/2004
55,213A | Kimberly-Clark Corporation (Comp) | Draper, UT | 07/09/2004 | 06/29/2004
55,213B | Kimberly-Clark Corporation (Comp) | Draper, UT | 07/09/2004 | 06/29/2004
55,213C | Kimberly-Clark Corporation (Comp) | Pocatello, UT | 07/09/2004 | 06/29/2004
55,213D | Kimberly-Clark Corporation (Comp) | Pocatello, UT | 07/09/2004 | 06/29/2004
55,213 | Kimberly-Clark Corporation (Comp) | Draper, UT | 07/09/2004 | 06/29/2004
55,214 | Lufthansa Airlines (Comp) | E. Meadow, NY | 07/09/2004 | 07/02/2004
55,215 | Global Telephone Sales of N.A., LLC (NPC) | Los Angeles, CA | 07/09/2004 | 07/01/2004
55,216 | ITW Insulation Systems (USWA) | Nitro, WV | 07/09/2004 | 07/07/2004
55,217 | Rexam Cosmetic Packaging (CT) | Torrington, CT | 07/09/2004 | 07/08/2004
55,218 | Brady Worldwide, Inc. (Comp) | Milwaukee, WI | 07/09/2004 | 07/07/2004
55,219 | Good Will Sewing Co. (Wkrs.) | San Francisco, CA | 07/09/2004 | 06/25/2004
55,220 | Calypte Biomedical Corp. (CA) | Alameda, CA | 07/09/2004 | 06/23/2004
55,221 | Sola/Hevi-Duty (Comp.) | Rainsville, AL | 07/09/2004 | 07/08/2004
55,222 | ACS Monticello (NPC) | Monticello, KY | 07/09/2004 | 06/11/2004
55,223 | Indalex, Inc. (CT) | Berlin, CT | 07/09/2004 | 07/08/2004
55,224 | Depuy Casting (Comp.) | N. Brunswick, NJ | 07/09/2004 | 06/22/2004
55,225 | Model Die Casting Inc. (Comp) | Carson City, NV | 07/12/2004 | 06/18/2004
55,226 | Valley Industries, Inc. (NPC) | Cincinnati, OH | 07/12/2004 | 07/08/2004
55,227 | Robert Bosch Corp. (Comp) | Sumter, SC | 07/12/2004 | 07/02/2004
55,228 | Tab Products Company (Wkrs) | Mayville, WI | 07/12/2004 | 07/01/2004
55,229 | APA Optics (Apple Paul Apple) (MN) | Blaine, MN | 07/12/2004 | 07/07/2004
55,230 | GGS Information Services, Inc. (Wkrs) | York, PA | 07/12/2004 | 07/09/2004
55,231 | MCI (NPW) | Wichita, KS | 07/12/2004 | 07/09/2004
55,232 | Sumco Oregon (Comp) | Salem, OR | 07/12/2004 | 07/01/2004
55,233 | Meadwestvaco Papers Group (Wkrs) | Escanaba, MI | 07/12/2004 | 06/30/2004
55,234 | Lexmark International (Wkrs) | Lexington, KY | 07/13/2004 | 07/12/2004
55,235 | Wyeth (Comp) | Marietta, PA | 07/13/2004 | 07/09/2004
55,236 | VF Playwear, Inc. (NPC) | Trenton, SC | 07/13/2004 | 07/12/2004
55,237 | Pacific Coast Lighting (Comp) | Chatsworth, CA | 07/13/2004 | 07/09/2004
55,238 | TracFone Wireless, Inc. (NPS) | Miami, FL | 07/13/2004 | 07/12/2004
55,239 | Edron Fixtures Corporation (FL) | Miami, FL | 07/13/2004 | 07/12/2004
55,240 | Rubbermaid (Wkrs) | Jackson, MO | 07/13/2004 | 07/09/2004
55,241 | Larimer and Norton, Inc. (Comp) | Hancock, NY | 07/13/2004 | 07/13/2004
55,242 | Schrader Bridgeport (Comp) | Monroe, NC | 07/13/2004 | 07/13/2004
55,243 | 5 B's, Inc. (Comp) | Barnesville, OH | 07/14/2004 | 06/15/2004
55,244 | Four Corporation (IBB) | Green Bay, WI | 07/14/2004 | 07/09/2004
55,245 | Commercial Vehicle Systems (OR) | Canby, OR | 07/14/2004 | 07/09/2004
55,246 | Fresenius Medical Care (Wkrs) | Delran, NJ | 07/14/2004 | 07/07/2004
55,247 | Clifford Toos and Mfg. Corp. (CA) | Chatsworth, CA | 07/14/2004 | 07/06/2004
55,248 | Marley Cooling Technologies (Wkrs) | Concordia, MO | 07/14/2004 | 07/09/2004
55,249 | Briar Knitting (Comp) | Berwick, PA | 07/14/2004 | 07/13/2004
55,250 | Staffing Solutions, Inc. (NPC) | Johnson City, TN | 07/14/2004 | 07/08/2004
55,251 | DeRoyal Surgical (Wkrs) | Rose Hill, VA | 07/14/2004 | 07/07/2004
55,252 | Fiberglass Products, Inc. (Comp) | North Haven, CT | 07/15/2004 | 07/06/2004
55,253 | Christiana Industries (Comp) | Vernon Hills, IL | 07/15/2004 | 07/08/2004
55,254 | Amplas, Inc. (Comp) | Green Bay, WI | 07/15/2004 | 07/07/2004
55,255 | Pinnacle Steel Processing (Comp) | Jefferson City, TN | 07/15/2004 | 07/13/2004
55,256 | Miller Bag Company (Comp) | Arlington, SD | 07/15/2004 | 07/08/2004
55,257 | Russell Corporation (Wkrs) | Alexander City, AL | 07/15/2004 | 07/12/2004
55,258 | Marion County Shirt Co. (AR) | Yellville, AR | 07/15/2004 | 07/14/2004
55,259 | Willow Creek Apparel (NPC) | Jonesville, NC | 07/15/2004 | 07/08/2004
55,260 | Kincaid Furniture Co. (Comp) | Lenoir, NC | 07/16/2004 | 07/14/2004
55,261 | Sony Electronics Inc. (Wkrs) | Farmington Hills, MI | 07/16/2004 | 07/13/2004
55,262 | JDS Uniphase Corp. (Comp) | Rochester, MN | 07/16/2004 | 06/25/2004
55,263 | Fabrictex (Wkrs) | Lincolnton, NC | 07/16/2004 | 07/12/2004
55,264 | Leica Geosystems Group, LLC (Comp) | Grand Rapids, MI | 07/16/2004 | 07/15/2004
55,265 | ATI Research Silicon Valley, Inc. (Comp) | Santa Clara, CA | 07/16/2004 | 07/14/2004
55,266 | Weathervane (Comp) | New Britain, CT | 07/16/2004 | 07/15/2004
55,267 | Alltrista Consumer Products (Comp) | Cloquet, MN | 07/16/2004 | 06/29/2004
55,268 | Takane U.S.A. (CA) | Torrance, CA | 07/16/2004 | 07/14/2004

[FR Doc. 04-18324 Filed 8-10-04; 8:45 am]

BILLING CODE 4510-30-M